DEPARTMENT OF HEALTH AND HUMAN SERVICES

Combined Notice of Funding Availability for Programs To Improve Minority Health and Racial and Ethnic Disparities in Health

AGENCY: Department of Health and Human Services, Office of the Secretary, Office of Public Health and Science, Office of Minority Health.

ACTION: Notice.

Funding Opportunity Titles: This notice of funding availability includes two programs for FY 2005: (1) Technical Assistance and Capacity Development Demonstration Grant Program for HIV/AIDS-Related Services in Minority Communities; and (2) National Umbrella Cooperative Agreement Program.

Announcement Type: Initial Announcement of Availability of Funds.

Catalog of Federal Domestic Assistance Numbers: (1) Technical Assistance and Capacity Development Demonstration Grant Program for HIV/AIDS-Related Services in Minority Communities—93.006; and (2) National Umbrella Cooperative Agreement Program—93.004.

DATES: Application Availability Date: June 13, 2005. Application Deadline: The National Umbrella Cooperative Agreement Program July 13, 2005; and the Technical Assistance and Capacity Development Demonstration Grant Program for HIV/AIDS-Related Services in Minority Communities July 13, 2005.

SUMMARY: This announcement is made by the United States Department of Health and Human Services (HHS or Department), Office of Minority Health (OMH) located within the Office of Public Health and Science (OPHS), and working in a “One-Department” approach collaboratively with participating HHS agencies and programs (entities). The mission of the OMH is to improve the health of racial and ethnic minority populations through the development of policies and programs that address disparities and gaps. OMH serves as the focal point in the HHS for leadership, policy development and coordination, service demonstrations, information exchange, coalition and partnership building, and related efforts to address the health needs of racial and ethnic minorities.

As part of a continuing HHS effort to improve the health and well being of racial and ethnic minorities, the Department announces availability of FY 2005 funding for the following two programs: Technical Assistance and Capacity Development Demonstration Grant Program for HIV/AIDS-Related Services in Minority Communities; and National Umbrella Cooperative Agreement Program.

The purpose of this single announcement is to make it easier for organizations such as community-based organizations, minority-serving organizations, faith-based organizations, and tribal governments and organizations, that meet the eligibility criteria for each program, to identify and apply for FY 2005 OMH funding. As eligibility criteria vary for each program under this announcement, a single notice of funding availability may assist potential applicants to better identify the programs for which they can compete and to target proposals to the program(s) most suitable to the issues faced by their population(s). This announcement should also assist eligible applicants to understand the range of issues that may be supported by the programs and encourage collaborations among organizations that provide services to racial and ethnic minorities.

Interested applicants should note the Notice is organized in the manner below. Each section contains the information for both programs, thus applicants should read each section for the applicable information.

• Sections I (Funding Opportunities), II (Award Information), and III (Eligibility Information) contain program specific information for both of the programs included in this notice of funding availability;

• Sections IV (Application and Submission Information) and V (Application Review Information) contain information that is both program specific and common to both programs:

• Sections VI (Award Administration Information), VII (Agency Contacts) and VIII (Other Information) contain common information that applies to both programs.

SUPPLEMENTARY INFORMATION:

Section I. Funding Opportunities

Authority: These programs are authorized under 42 U.S.C. 300u-6, section 1707 of the Public Health Service Act, as amended.

1. Technical Assistance and Capacity Development Demonstration Grant Program for HIV/AIDS-Related Services in Minority Communities

A. Purpose: The Technical Assistance and Capacity Development Demonstration Grant Program for HIV/AIDS-related Services in Minority Communities (hereinafter referred to as TA/CD Program) seeks to develop and improve effective and durable service delivery capacity for HIV prevention and treatment among organizations closely interfaced with targeted minority populations impacted by HIV/AIDS. The applicant will identify community-based, minority-serving organizations that are well linked with targeted minority populations affected by HIV/AIDS, and which have recognized needs and/or gaps in their capacity to provide HIV/AIDS-related prevention and care services. The applicant will then provide technical assistance and capacity building services to those organizations based on their identified needs.

B. OMH Expectations: It is intended that the TA/CD Program will result in:

• Increased number of community-based, minority-serving organizations with the programmatic capacity to provide appropriate and effective HIV/AIDS services.

• Increased potential for sustainability of those organizations as evidenced by systems change (such as development of operational policies and procedures, clearly defined board roles, and implementation of sound fiscal practices).

• Increased number of community-based, minority-serving organizations with the administrative and programmatic capacity to compete successfully for funding to address the HIV/AIDS epidemic.

• Increased reach of the organizations' services within the community, as evidenced by increased client base, increased utilization rates and increased development of formal partnerships with other organizations.

C. Applicant Project Results: Applicants must identify anticipated project results that are consistent with the overall Program purpose and OMH expectations. Project results should fall within the following general categories:

• Building Capacity.

• Enhancing Infrastructure.

• Systems Change.

• Increasing Access.

• Changing Behavior and Utilization.

D. Project Requirements: Each applicant under the TA/CD Program must propose to:

• Identify the existing capacity for delivering HIV-related services (both HIV prevention and treatment) to targeted minority populations and compare this with available HIV/AIDS surveillance data.

• Identify high risk minority communities where there are recognized gaps in services for targeted minority populations with HIV/AIDS.

• Increase the capacity of existing community-based, minority-serving organizations, in the high risk minority communities identified, to deliver HIV/AIDS prevention and care by:

—Providing administrative technical assistance to improve the fiscal and organizational capacity appropriate to their programmatic responsibilities;

—Providing programmatic technical assistance to improve the planning and implementation of effective HIV/AIDS-related services;

—Establishing mentoring relationships to assist in the development of fiscal and programmatic skills that will allow them to sustain their organizations and successfully compete for federal and other sources of funds; and

—Identifying other sources of programmatic technical assistance and linking appropriate community-based, minority-serving organizations with these resources.

• Work with existing community-based, minority-serving organizations to develop strong linkages with other providers of services to complete a continuum of prevention and treatment services, including substance abuse treatment and mental health services for minority HIV/AIDS populations.

2. National Umbrella Cooperative Agreement Program

A. Purpose: The National Umbrella Cooperative Agreement Program seeks to: (1) Increase the diversity of the health-related work force; (2) reduce health disparities and improve quality of care for targeted minority populations through projects that are of national significance; and (3) improve evaluation procedures and the collection and analysis of data on targeted minority populations. Award(s) will be made in each of the following categories: Work Force Development, Health Disparities and Quality Care, and Data and Evaluation. Over the five-year project period of the cooperative agreement, multiple relevant projects can be supported under each cooperative agreement. Depending upon the category, the following are examples of the types of projects or activities that can be supported: Youth initiatives, health related internships, and fellowships; academic and other support services for students in the educational pipeline; disease prevention/health promotion; health services and behavioral research; health care access, including mental health, and human services support; health information technology and communication; cultural and linguistic competency; health information dissemination; infrastructure development; data collection and analysis on specific minority populations; development of curricula, toolkits, and other educational/instructional materials; and technical assistance, training (e.g., “Train-the-Trainer”), and other workshops on project evaluation.

This program uses a cooperative agreement mechanism for the Department and other Federal agencies to collaborate on projects to address the three purposes. In a cooperative agreement, Federal staff are substantially involved with the grantee in the design/implementation of the program. Projects funded under these cooperative agreements will have varying levels of Federal programmatic involvement depending upon the scope of work of each project. Examples of substantive programmatic involvement include:

• Participation in the design or direction of the activities.

• Assistance in the selection of contractors.

• Approval of evaluation plans/tools.

• Review and approval of each stage of a project prior to beginning a subsequent stage.

• Evaluation of progress through routine communication, reports, site visits, etc.

B. OMH Expectations: It is intended that the National Umbrella Cooperative Agreement Program will result in:

• Increased interest of minority youth in pursuing careers in the health arena.

• Increased number of minorities recruited and trained for careers in health fields.

• Increased level of cultural competency of health care providers serving targeted minority populations.

• Increased access to health care services for targeted minority populations.

• Increased utilization of health care services by targeted minority populations.

• Improved collection, analysis, interpretation and dissemination of health data on targeted minority populations.

• Increased number of organizations with the capacity to effectively evaluate project activities.

C. Applicant Project Results: Applicants must identify anticipated project results that are consistent with the overall Program purpose and OMH expectations. Project results should fall within the following general categories:

• Recruiting and Training Minority Health Professionals.

• Increasing Knowledge and Awareness of Minority Health Care Issues.

• Increasing Access.

• Changing Behavior and Utilization.

• Mobilizing Communities, Coalitions, and Networks.

• Changing Systems.

• Building Capacity.

• Strengthening Infrastructure.

• Improving Data and Evaluation.

D. Project Requirements: Each applicant under the National Umbrella Cooperative Agreement Program must:

• Have the capacity to address the issues within the category under which they are applying.

• Have the capacity to implement and manage multiple projects.

• Be able to collaborate with Federal partners.

• Have the ability to work with multiple ethnic and racial populations.

• Have the capacity to collaborate with other organizations that represent targeted minority populations.

• Propose to conduct an initial project of national significance that addresses one of the following categories: Work Force Development, Health Disparities and Quality of Care, or Data and Evaluation (See Section IV, 2B (2) on Application and Submission Information for details).

Section II. Award Information

1. TA/CD Program

Estimated Funds Available for Competition: $5,400,000.

Anticipated Number of Awards: 15-22.

Range of Awards: $250,000 to $350,000 per year.

Anticipated Start Date: September 1, 2005.

Period of Performance: 3 years (September 1, 2005 to August 31, 2008).

Budget Period Length: 12 months.

Type of Award: Grant.

Type of Application Accepted: New.

2. National Umbrella Cooperative Agreement Program

Estimated Funds Available for Competition: $2,000,000.

Anticipated Number of Awards: Up to 7 (2-3 of which focus on Work Force Development; 3-4 on Health Disparities and Quality Care; and 1 on Data and Evaluation).

Range of Awards: $250,000 to $300,000 for the initial project.

Anticipated Start Date: September 1, 2005.

Period of Performance: Umbrella Cooperative Agreement: 5 years (September 1, 2005-August 31, 2010); Project: 1 year (September 1, 2005-August 31, 2006).

Budget Period Length: 12 months.

Type of Award: Cooperative Agreement. (See Section I, 3A on Purpose for a description of substantial Federal involvement.)

Type of Application Accepted: New.

Section III. Eligibility Information

1. Eligible Applicants

A. TA/CD Program

To qualify for funding, an applicant must have a minimum of five years experience providing HIV/AIDS-related services and be a:

• Private nonprofit community-based, minority-serving organization (see Definitions) which addresses health and human services; or

• Public (local government) entity which addresses health and human services; or

• Tribal governmental entity which addresses health and human services.

Other entities that meet the definition of private non-profit community-based, minority-serving organization and the above criteria that are eligible to apply are:

• Faith-based organizations.

• Tribal governments and organizations.

• Local affiliates of national, State-wide, or regional organizations.

National, State-wide, and regional organizations, as well as educational institutions including local school systems, high schools, universities, and other schools of higher learning may not apply for these TA/CD Program grants. As the focus of the program is at the local, grassroots level, OMH is looking for organizations that have ties to the local community. National, state-wide, and regional organizations operate on a broader scale and are not as likely to effectively access the targeted minority population in the local neighborhoods and communities. Educational institutions, in general, do not have the mission and local focus as community-based organizations and local government entities and are not as likely to effectively foster the close mentoring relationships with participating community-based, minority-serving organizations, as required for this program. Educational institutions may, however, serve as partners with eligible applicants.

The organization submitting the application will:

• Serve as the lead agency for the project, responsible for its implementation and management; and

• Serve as the fiscal agent for the Federal grant awarded.

B. National Umbrella Cooperative Agreement Program

To qualify for funding, an applicant must be:

• A private, nonprofit national minority-serving organization (see Definitions) with at least 5 years of experience in working with targeted minority populations; or

• An organization that currently has an umbrella cooperative agreement with OMH (see Section VIII, 3).

Examples of national minority-serving organizations that may apply include, but are not limited to:

• Associations/organizations representing community health organizations serving targeted minority populations.

• Associations/organizations that focus on minority health, education, leadership development, and/or community partnerships.

• Associations/organizations that represent minority-focused health professionals.

Faith-based organizations and tribal entities that meet the above criteria are also eligible to apply for these Umbrella Cooperative Agreements.

2. Cost Sharing or Matching

Matching funds are not required for the TA/CD Program or the National Umbrella Cooperative Agreement Program.

3. Other

Organizations applying for funds under the TA/CD Program or the National Umbrella Cooperative Agreement Program must submit documentation of nonprofit status with their applications. If documentation is not provided, the application will be considered non-responsive and will not be entered into the review process. The organization will be notified that the application did not meet the submission requirements.

Any of the following serves as acceptable proof of nonprofit status:

• A reference to the applicant organization's listing in the Internal Revenue Service's (IRS) most recent list of tax-exempt organizations described in section 501(c)(3) of the IRS Code.

• A copy of a currently valid IRS tax exemption certificate.

• A statement from a State taxing body, State Attorney General, or other appropriate State official certifying that the applicant organization has a nonprofit status and that none of the net earnings accrue to any private shareholders or individuals.

• A certified copy of the organization's certificate of incorporation or similar document that clearly establishes nonprofit status.

• Any of the above proof for a State or national organization and a statement signed by the parent organization that the applicant organization is a local nonprofit affiliate.

If funding is requested in an amount greater than the ceiling of the award range, the application will be considered non-responsive and will not be entered into the review process. The application will be returned with notification that it did not meet the submission requirements.

Applications that are not complete or that do not conform to or address the criteria of this announcement will be considered non-responsive and will not be entered into the review process. The application will be returned with notification that it did not meet the submission requirements.

An organization may submit no more than one application to the TA/CD Program. Organizations submitting more than one proposal for this grant program will be deemed ineligible. The proposal will be returned without comment.

For the National Umbrella Cooperative Agreement Program, an organization may submit up to three applications—one under each of the three categories (i.e., Work Force Development, Health Disparities and Quality Care, and Data and Evaluation). However, no more than one application from an organization will be funded.

Organizations are not eligible to receive funding from more than one OMH grant program to carry out the same project and/or activities.

Section IV. Application and Submission Information

1. Address To Request Application Package

Application kits may be obtained:

• At http://www.omhrc.gov.

• By writing to Ms. Karen Campbell, Director, Office of Grants Management, OPHS, Tower Building, 1101 Wootton Parkway, Suite 550, Rockville, MD 20852; or contact the Office of Grants Management at (240) 453-8822. Please specify the OMH program(s) for which you are requesting an application kit.

2. Content and Form of Application Submission

A. Application and Submission for the TA/CD Program

Applicants must use Grant Application OPHS-1. Forms to be completed include the Face Page/Cover Page (SF424), Checklist, and Budget Information Forms for Non-Construction Programs (SF424A). In addition to the application forms, applicants must provide a project narrative.

The project narrative (including summary and appendices) should be no more than 45 pages (55 pages for currently funded grantees). Currently funded OMH grantees (i.e., TA/CD Program grantees) must include a Progress Report (maximum of 10 pages) in the appendix.

The narrative must be printed on one side of 8½ by 11 inch white paper, with one-inch margins, double-spaced and 12-point font. All pages must be numbered sequentially including any appendices. (Do not use decimals or letters, such as: 1.3 or 2A). Do not staple or bind the application package. Use rubber bans or binder clips.

The narrative description of the project must contain the following:

• Table of Contents: Include with page numbers for each of the following sections.

• Project Summary: Briefly describe key aspects of the Statement of Need, Objectives, Program Plan, Evaluation Plan, and Management Plan. The summary should be no more than 3 pages in length.

• Statement of Need: Describe the HIV/AIDS epidemic in the targeted community. Describe and document (with data) demographic information on the targeted geographic area, and the significance or prevalence of the problem or issues affecting the target minority group(s). Describe the minority group(s) targeted by the project (e.g., race/ethnicity, age gender, educational level/income). Describe the applicant organization's background.

• Objectives: State objectives in measurable terms, including baseline data and time frames for achievement.

• Program Plan: Clearly describe how the project will be carried out. Describe specific activities and strategies planned to achieve each objective. For each activity, describe how, when, where, by whom, and for whom the activity will be conducted. Describe the role of any proposed linkage organization(s) in the project. Describe any products to be developed by the project. Provide a time line chart.

• Evaluation Plan: The evaluation plan must clearly articulate how the applicant will evaluate program activities. It is expected that evaluation activities will be implemented at the beginning of the program in order to capture and document actions contributing to program outcomes. The evaluation plan must be able to produce documented results that demonstrate whether and how the strategies and activities funded under the program made a difference in developing and improving effective and durable service delivery capacity for HIV prevention and treatment among organizations closely interfaced with targeted minority populations impacted by HIV/AIDS. The plan should identify the expected results for each major objective and activity. The description should include data collection and analysis methods, demographic data to be collected on project participants, process measures describing indicators to be used to monitor and measure progress toward achieving projected results by objectives, outcome measures which will show that the project has accomplished planned activities, and impact measures demonstrating achievement of the objectives to positively affect HIV/AIDS. Discuss the potential for replication.

• Management Plan: Provide a description of proposed program staff, including resumes and job descriptions for key staff, qualifications and responsibilities of each staff member, and percent of time each is committing to the project. Provide a description of duties for proposed consultants. Discuss the applicant organization's experience in managing projects/activities, especially those targeting the population to be served. Include a chart of the organization's structure, showing who reports to whom, and of the project's structure. Describe the background/experience of any proposed linkage organization and how the organization will interface with the applicant organization.

• Appendices: Include documentation and other supporting information in this section, including Progress Report, and other relevant information. (Appendices count toward the narrative page limit.)

In addition to the project narrative, the application must contain a detailed budget justification (does not count toward the page limitation). The detailed budget justification must include a narrative and computation of expenditures for each year in which grant support is requested. The budget request should include funds for key project staff to attend an annual OMH grantee meeting and the OMH Second National Leadership Summit on Eliminating Racial and Ethnic Disparities in Health, scheduled for January 9-11, 2006.

The complete application kit will provide instructions on the content of each of these sections.

B. Application and Submission Information for the National Umbrella Cooperative Agreement Program

Applicants must use Grant Application OPHS-1. Forms to be completed include the Face Page/Cover Page (SF424), Checklist, and Budget Information Forms for Non-Construction Programs (SF424A).

Applications must include two sections: a Capability Statement and a Project Narrative. The Capability Statement should be no more than 10 pages. The Project Narrative (including summary and appendices) should be no more than 45 pages. The Capability Statement and Project Narrative must be printed on one side of 8½ by 11 inch white paper, with one-inch margins, double-spaced and 12-point font. Include a Table of Contents. All pages must be numbered sequentially including any appendices. (Do not use decimals or letters, such as: 1.3 or 2A). Do not staple or bind the application package. Use rubber bands or binder clips.

(1) The Capability Statement must support the organization's ability to address the health and quality of life for racial and ethnic minority populations throughout the United States. It must include the following:

• The organization's mission statement.

• An organizational chart indicating the number and location of affiliate organizations, and a narrative describing how the affiliates work with each other and with the parent organization and how this infrastructure will be used to support program activities.

• Evidence of the organization and its partners' ability to address the targeted minority population and its health problems under the selected category; to manage multiple projects; and to collaborate with other non-affiliated organizations.

• Past efforts focusing on health related needs of racial and ethnic minority populations through affiliates, regional, and national organizations for the last five years. Include outcomes and, if ongoing, expected outcomes.

• Evidence that the organization can carry out activities in the area(s) targeted by the proposed project.

• Proof that the organization can collect, analyze and disseminate data on the health of targeted minority populations.

• A description of the proposed staff responsible for monitoring the cooperative agreement. Include resumes and job descriptions of key staff, qualifications and responsibilities of each staff member and percentage of time on the cooperative agreement.

• A description on how the organization plans to evaluate its effectiveness in managing projects.

In addition, the applicant must provide a detailed budget justification for management responsibilities (does not count toward the page limitation). The budget request should include funds for key project staff to attend an annual OMH grantee meeting and the OMH Second National Leadership Summit on Eliminating Racial and Ethnic Disparities in Health, scheduled for January 9-11, 2006.

(2) The Project Narrative must describe a one-year project addressing minority health-related activities in the selected category (Work Force Development; Health Disparities and Quality Care; or Data and Evaluation).

The Section must include the following:

• Project Summary: Briefly describe key aspects of the Statement of Need, Objectives, Program Plan, Evaluation Plan, and Management Plan. The summary should be no more than 3 pages in length.

• Statement of Need: Describe and document (with data) the significance or prevalence of the problem or issues affecting the targeted minority group(s). Describe the minority group(s) targeted by the project (e.g., race/ ethnicity, age gender, educational level/income).

• Objectives: State objectives in measurable terms, including baseline data and time frames for achievement.

• Program Plan: Clearly describe how the project will be carried out and the role(s) of collaborating organizations or subcontractors. Describe specific activities and strategies planned to achieve each objective. For each activity, describe how, when, where, by whom, and for whom the activity will be conducted. Describe any products to be developed by the project. Provide a time line chart.

a. Projects addressing Work Force Development must include at a minimum one of the following:

—National minority youth initiatives which bring together targeted minority high school students to increase their knowledge regarding career opportunities in the health arena and to explore prospects for pursuing health careers.

—Minority internships which provide targeted minority undergraduate and graduate students majoring in health fields with first-hand knowledge of public health programs and agencies, including the federal process, and the opportunity to interact with health-related activities.

—Pipeline activities to increase the pool of minority students interested in health science careers. Such activities can include strengthening math and science skills to better prepare minority students to undertake training for these fields.

—Fellowships to develop needed skills for success in the academic arena, and advance the career development of minority faculty.

Workforce development projects must demonstrate that they have a system in place to track participants and outcomes.

b. Projects addressing Health Disparities and Quality Care may direct efforts to minority individuals/groups as well as health care providers, health planning staff and administrators, and others who serve them in health care settings and/or the community-at-large (e.g., media, local businesses and industries, faith-based organizations, civic associations, community leaders).

These projects must include activities that address, develop and/or improve, at a minimum, one of the following:

—Access to quality health care and appropriate utilization of health services.

—Prevention, education and training programs to improve the health of targeted minority populations.

—Health information technology to improve quality of health care.

—Outreach programs to minority communities.

—Health care needs of rural and isolated communities, including emerging minority communities.

—Cultural and linguistic competency in health care.

—Web-based multi-user systems that can enhance communication between health care providers and their clients.

c. Projects addressing Data and Evaluation must include one of the following:

—Development of strategies for accessing, collecting, and analyzing data on targeted minority populations.

—Identification of ways in which the collection of health data on targeted minority populations could impact the delivery of health care.

—Identification of cultural barriers to data collection efforts, and strategies to overcome them.

—Collection and analysis of health data that is specific to particular ethnic and racial populations.

—Development of technical assistance for potential applicants/grantees on strategies for evaluating their grant programs.

—Development of a “Train-the-Trainer” program to develop a pool of individuals to assist minority-serving organizations on the collection and use of data.

• Evaluation Plan: The evaluation plan must clearly articulate how the applicant will evaluate program activities. It is expected that evaluation activities will be implemented at the beginning of the program in order to capture and document actions contributing to program outcomes. The evaluation plan must be able to produce documented results that demonstrate whether and how the strategies and activities funded under the Program made a difference in: (1) Increasing the diversity of the health-related work force; (2) reducing health disparities and improving quality of care for targeted minority populations; or (3) improving evaluation procedures and the collection and analysis of data on targeted minority populations. The plan should identify the expected results for each major objective and activity of the project. The description should include data collection and analysis methods, demographic data to be collected on project participants, process measures describing indicators to be used to monitor and measure progress toward achieving projected results by objectives, outcome measures which will show that the project has accomplished planned activities, and impact measures demonstrating achievement of the objectives to positively affect targeted health issues. Discuss the potential for replication.

• Management Plan: Provide a description of proposed program staff, including resumes and job descriptions for key staff, qualifications and responsibilities of each staff member, and percent of time each is committing to the project. Provide a description of duties for proposed consultants. Include a chart of the project's structure, showing who reports to whom (including consultants and staff of collaborating organizations).

• Appendices: Include documentation and other supporting information. (Appendices count toward the narrative page limit.)

In addition to the project narrative, the applicant must provide a detailed budget justification for project activities.

C. Data Universal Numbering System number (DUNS): Applicants to either of the two programs addressed in this announcement are required to obtain a DUNS number as preparation for doing business electronically with the Federal Government. The DUNS number must be obtained prior to applying for OMH funds.

The DUNS number is a nine-character identification code provided by the commercial company Dun & Bradstreet, and serves as a unique identifier for business entities. There is no charge for requesting a DUNS number, and you may register and obtain a DUNS number by either the following methods: Telephone: 1-866-705-5711, Web site: https://eupdate.dnb.com/requestoptions.html. Click on the link that reads, “DUNS Number Only” at the left hand, bottom corner of the screen to access the free registration page. Please note that registration via the Web site may take up to 30 business days to complete.

3. Submission Dates and Times

Application Deadline Date: National Umbrella Cooperative Agreement Program July 13, 2005; and TA/CD Program July 13, 2005.

Submission Mechanisms

The Office of Public Health and Science (OPHS) provides multiple mechanisms for the submission of applications, as described in the following sections. Applicants will receive notification via mail from the Office of Grants Management, OPHS, confirming the receipt of applications submitted using any of these mechanisms. Applications submitted to the Office of Grants Management, OPHS, after the deadlines described below will not be accepted for review. Applications which do not conform to the requirements of the grant announcement will not be accepted for review and will be returned to the applicant.

Applications may only be submitted electronically via the electronic submission mechanisms specified below. Any applications submitted via any other means of electronic communication, including facsimile or electronic mail, will not be accepted for review. While applications are accepted in hard copy, the use of the electronic application submission capabilities provided by the OPHS eGrants system or the Grants.gov Web site Portal is encouraged.

Electronic Submissions via the OPHS eGrants System

The OPHS electronic grants management system, eGrants, provides for applications to be submitted electronically. Information about this system is available on the OPHS eGrants Web site, https://egrants.osophs.dhhs.gov, or may be requested from the Office of Grants Management, OPHS, at 301-594-0758.

The body of the application and required forms can be submitted using the OPHS eGrants system. In addition to electronically submitted materials, applicants are required to submit a hard copy of the application face page (Standard Form 424) with the original signature of an individual authorized to act for the applicant agency or organization and to assume for the organization the obligations imposed by the terms and conditions of the grant award. If required, applicants will also need to submit a hard copy of the Standard Form LLL and/or certain program related forms with the original signature of an individual authorized to act for the applicant agency or organization. The application will not be considered complete until both the electronic application components submitted via the OPHS eGrants system and any hard copy materials or original signatures are received.

Electronic grant application submissions must be submitted via the OPHS eGrants system no later than 5 p.m. eastern time on the deadline date specified in the DATES section of the announcement. All required hardcopy original signatures and mail-in items must be received by the Office of Grants Management, OPHS, no later than 5 p.m. eastern time on the next business day after the deadline date specified in the DATES section of the announcement.

Applications will not be considered valid until all electronic application components, hardcopy original signatures, and mail-in items are received by the Office of Grants Management, OPHS, according to the deadlines specified above. Any application submitted electronically after 5 p.m. eastern time on the deadline date specified in the DATES section of the announcement will be considered late and will be deemed ineligible. Failure of the applicant to submit all required hardcopy original signatures and required mail-in items to the Office of Grants Management, OPHS, by 5 p.m. eastern time on the next business day after the deadline date specified in the DATES section of the announcement will result in the electronic application being deemed ineligible.

As items are received by the Office of Grants Management, OPHS, the electronic application status will be updated to reflect the receipt of mail-in items. It is recommended that the applicant monitor the status of their application in the OPHS eGrants system to ensure that all signatures and mail-in items are received.

Applicants are encouraged to initiate electronic applications early in the application development process, and to submit early on the due date or before. This will aid in addressing any problems with submissions prior to the application deadline.

Electronic Submissions via the Grants.gov Web site Portal

The Grants.gov Web site Portal provides for applications to be submitted electronically. Information about this system is available on the Grants.gov Web site, http://www.grants.gov.

The body of the application and required forms can be submitted using the Grants.gov Web site Portal. Grants.gov allows the applicant to download and complete the application forms at any time, however, it is required that organizations successfully complete the necessary registration processes in order to submit the application to Grants.gov.

In addition to electronically submitted materials, applicants may be required to submit hard copy signatures for certain program related forms, or original materials as required by the announcement. It is imperative that the applicant review both the grant announcement, as well as the application guidance provided within the Grants.gov application package, to determine such requirements. Any required hard copy materials, or documents that require a signature, excluding the standard forms included in the Grants.gov application package (e.g., Standard Form 424 Face Page, Standard Assurances and Certifications (Standard Form 424B, and Standard Form LLL) must be submitted separately via mail to the Office of Grants Management, OPHS, and, if required, must contain the original signature of an individual authorized to act for the applicant agency or organization and to assume for the organization the obligations imposed by the terms and conditions of the grant award.

Electronic grant application submissions must be submitted via the Grants.gov Web site Portal no later than 5 p.m. eastern time on the deadline date specified in the DATES section of the announcement. All required hardcopy original signatures and mail-in items must be received by the Office of Grants Management, OPHS, no later than 5 p.m. eastern time on the next business day after the deadline date specified in the DATES section of the announcement.

Applications will not be considered valid until all electronic application components, hardcopy original signatures, and mail-in items are received by the Office of Grants Management, OPHS, according to the deadlines specified above. Any application submitted electronically via the Grants.gov Web site Portal after 5 p.m. eastern time on the deadline date specified in the DATES section of the announcement will be considered late and will be deemed ineligible. Failure of the applicant to submit all required hardcopy original signatures or materials to the Office of Grants Management, OPHS, by 5 p.m. eastern time on the next business day after the deadline date specified in the DATES section of the announcement will result in the electronic application being deemed ineligible.

Upon completion of a successful electronic application submission via the Grants.gov Web site Portal, the applicant will be provided with a confirmation page from Grants.gov indicating the date and time (eastern time) of the electronic application submission, as well as the Grants.gov Receipt Number. It is critical that the applicant print and retain this confirmation for their records, as well as a copy of the entire application package.

All applications submitted via the Grants.gov Web site Portal will be validated by Grants.gov. Any applications deemed “Invalid” by the Grants.gov Web site Portal will not be transferred to the OPHS eGrants system, and OPHS has no responsibility for any application that is not validated and transferred to OPHS from the Grants.gov Web site Portal. Grants.gov will notify the applicant regarding the application validation status. Once the application is successfully validated by the Grants.gov Web site Portal, applicants should immediately mail all required hard copy materials to the Office of Grants Management, OPHS, to be received by the deadlines specified above. It is critical that the applicant clearly identify the Organization name and Grants.gov Application Receipt Number on all hard copy materials.

Once the application is validated by Grants.gov, it will be electronically transferred to the OPHS eGrants system for processing. Upon receipt of both the electronic application from the Grants.gov Web site Portal, and the required hardcopy mail-in items, applicants will receive notification via mail from the Office of Grants Management, OPHS, confirming the receipt of the application submitted using the Grants.gov Web site Portal.

Applicants are encouraged to initiate electronic applications via the Grants.gov Web site Portal early in the application development process, and to submit early on the due date or before. This will aid in addressing any problems with submissions prior to the application deadline.

Applicants should contact Grants.gov regarding any questions or concerns pertaining to the electronic application process conducted through the Grants.gov Web site Portal.

Mailed or Hand-Delivered Hard Copy Applications

Applicants who submit applications in hard copy (via mail or hand-delivered) are required to submit an original and two copies of the application. The original application must be signed by an individual authorized to act for the applicant agency or organization and to assume for the organization the obligations imposed by the terms and conditions of the grant award.

Mailed or hand-delivered applications will be considered as meeting the deadline if they are received by the Office of Grants Management, OPHS, on or before 5 p.m. eastern time on the deadline date specified in the DATES section of the announcement. The application deadline date requirement specified in this announcement supersedes the instructions in the OPHS-1. Applications that do not meet the deadline will be returned to the applicant unread.

4. Intergovernmental Review

The TA/CD Program is subject to the requirements of Executive Order 12372 which allows States the options of setting up a system for reviewing applications from within their States for assistance under certain Federal programs. The application kits available under this notice will contain a list of States which have chosen to set up a review system and will include a State Single Point of Contact (SPOC) in the State for review. The SPOC list is also available on the Internet at the following address: http://www.whitehouse.gov/omb/grants/spoc.html. Applicants (other than federally recognized Indian tribes) should contact their SPOC as early as possible to alert them to the prospective applications and receive any necessary instructions on the State process. The due date for State process recommendations is 60 days after the application deadlines established by the OPHS Grants Management Officer. The OMH does not guarantee that it will accommodate or explain its responses to State process recommendations received after that date. (See “Intergovernmental Review of Federal Programs,” Executive Order 12372, and 45 CFR part 100 for a description of the review process and requirements.)

The TA/CD Program is subject to Public Health Systems Reporting Requirements. Under these requirements, community-based non-governmental applicants must prepare and submit a Public Health System Impact Statement (PHSIS). The PHSIS is intended to provide information to State and local health officials to keep them apprised of proposed health services grant applications submitted by community-based organizations within their jurisdictions.

Community-based non-governmental applicants are required to submit, no later than the Federal due date for receipt of the application, the following information to the head of the appropriate State or local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letters forwarding the PHSIS to these authorities must be contained in the application materials submitted to the OPHS.

5. Funding Restrictions

Budget Request: If funding is requested in an amount greater than the ceiling of the award range, the application will be considered non-responsive and will not be entered into the review process. The application will be returned with notification that it did not meet the submission requirements.

Grant funds may be used to cover costs of:

• Personnel.

• Consultants.

• Equipment.

• Supplies (including screening and outreach supplies).

• Grant-related travel (domestic only), including attendance at an annual OMH grantee meeting.

• Other grant-related costs.

Grants funds may not be used for:

• Building alterations or renovations.

• Construction.

• Fund raising activities.

• Job training.

• Medical care, treatment or therapy.

• Political education and lobbying.

• Research studies involving human subjects.

• Vocational rehabilitation.

Guidance for completing the budget can be found in the Program Guidelines, which are included with the complete application kits.

6. Other Submission Requirements

For applications submitted in hard copy, send an original, signed in blue ink, and two copies of the complete grant application to: Ms. Karen Campbell, Director, Office of Grants Management, OPHS, 1101 Wootton Parkway, Suite 550, Rockville, MD 20852. Information about electronic submissions is available on the Grants.gov Web site. Applications submitted by e-mail, Facsimile transmission (FAX) or any other electronic format will not be accepted.

Section V. Application Review Information

1. Criteria

1a. Criteria for the TA/CD Program

The technical review of the TA/CD Program applications will consider the following five generic factors.

A. Factor 1: Program Plan (35%)

• Appropriateness of proposed approach and specific activities for each objective.

• Logic and sequencing of the planned approaches in relation to the objectives and program evaluation.

• Soundness of the established partnerships (e.g., coalition, linkages).

• Likelihood of successful implementation of the project.

B. Factor 2: Evaluation (20%)

• The degree to which expected results are appropriate for major objectives and activities.

• Appropriateness of the proposed data collection (including demographic data to be collected on project participants), analysis and reporting procedures.

• Suitability of process, outcome, and impact measures.

• Clarity of the intent and plans to assess and document the activities and their outcomes.

• Potential for the proposed project to impact the health status of, and barriers to, health care experienced by the targeted minority.

• Potential for replication of the project for similar target populations and communities.

C. Factor 4: Objectives (20%)

• Merit of the objectives.

• Relevance to the Program purpose, expectations, and stated problem.

• Attainability of the objectives in the stated time frames.

D. Factor 3: Statement of Need (15%)

• Demonstrated knowledge of the problem at the local level.

• Significance and prevalence of the identified health problem(s) or health issue(s) in the proposed community and target population.

• Extent to which the applicant demonstrates access to the target community(ies), and whether it is well positioned and accepted within the community(ies) to be served.

• Extent and documented outcome of past efforts and activities with the target population. (Currently funded OMH grantees [i.e., TA/CD Program grantees] must attach a progress report describing project accomplishments and outcomes.)

E. Factor 5: Management Plan (10%)

• Applicant organization's capability to manage and evaluate the project as determined by:

—Qualifications and appropriateness of proposed staff or requirements for “to be hired” staff and consultants.

—Proposed staff level of effort.

—Management experience of the applicant.

—The applicant's organizational structure and proposed project organizational structure.

• Appropriateness of defined roles including staff reporting channels and that of any proposed contractors.

• Clear lines of authority among the proposed staff within and between participating organizations.

1b. Criteria for the National Umbrella Cooperative Agreement Program

The technical review of the National Umbrella Cooperative Agreement Program application will consider the following generic factors.

A. Project (65%)

Factor 1: Program Plan (20%)

• Appropriateness of proposed approach and specific activities for each objective.

• Logic and sequencing of the planned approaches in relation to the objectives and program evaluation.

• Likelihood of successful implementation of the project.

Factor 2: Evaluation (20%)

• The degree to which expected results are appropriate for major objectives and activities.

• Appropriateness of the proposed data collection (including demographic data to be collected on project participants), analysis and reporting procedures.

• Suitability of process, outcome, and impact measures.

• Clarity of the intent and plans to assess and document the activities and their outcomes.

• Potential for the proposed project to impact the health status of, and barriers to, health care experienced by the targeted minority.

• Potential for replication of the project for similar target populations and communities.

Factor 3: Objectives (15%)

• Merit of the objectives.

• Relevance to the program purpose, project outcomes and stated problem.

• Attainability of the objectives in the stated time frames.

Factor 4: Management Plan (5%)

• Applicant organization's capability to manage and evaluate the project as determined by:

—Qualifications and appropriateness of proposed staff or requirements for “to be hired” staff and consultants.

—Proposed staff level of effort.

—Proposed project organizational structure.

• Appropriateness of defined roles including staff reporting channels and that of any proposed contractors and clear lines of authority among the proposed staff within and (if appropriate) between participating organizations.

Factor 5: Statement of Need (5%)

• Demonstrated knowledge of the problem at the national and/or local level as applicable and the significance and prevalence of the identified health problem(s) or health issue(s) in the proposed target population.

• Extent to which the applicant demonstrates access to the target population, and whether it is well positioned and accepted within the population to be served.

B. Capability Statement (35%)

Factor 1: Management and Organizational Structure (20%)

• Ability of the organization to implement national initiatives.

• Ability of the organization to manage multiple projects.

• Ability to collaborate with other non-affiliated organizations.

• Appropriateness of the organizational mission to address the health issues of the target minority population.

• The applicant's organizational structure.

Factor 2: Experience (15%)

• Demonstrated ability to serve racial and ethnic minority populations.

• Extent and documented outcomes of past efforts and activities with the target population.

• Extent to which the organization demonstrates its ability to collect, analyze and disseminate data on the health of minority populations.

2. Review and Selection Process

Accepted TA/CD Program and National Umbrella Cooperative Agreement Program applications will be reviewed for technical merit in accordance with PHS policies. Applications will be evaluated by an Objective Review Committee (ORC). Committee members are chosen for their expertise in minority health, health disparities, and their understanding of the unique health problems and related issues confronted by the racial and ethnic minority populations in the United States. Funding decisions will be determined by the Deputy Assistant Secretary for Minority Health who will take under consideration:

• The recommendations and ratings of the ORC.

• Geographic and racial/ethnic distribution.

• Health issues to be addressed.

3. Anticipated Award Date

September 1, 2005.

Section VI. Award Administration Information

1. Award Notices

Successful applicants will receive a notification letter from the Deputy Assistant Secretary for Minority Health and a Notice of Grant Award (NGA), signed by the OPHS Grants Management Officer. The NGA shall be the only binding, authorizing document between the recipient and the Office of Minority Health. Notification will be mailed to the Program Director identified in the application.

Unsuccessful applicants will receive a notification letter with the results of the review of their application from the Deputy Assistant Secretary for Minority Health.

2. Administrative and National Policy Requirements

In accepting this award, the grantee stipulates that the award and any activities thereunder are subject to all provisions of 45 CFR parts 74 and 92, currently in effect or implemented during the period of the grant.

A notice providing information and guidance regarding the “Government-wide Implementation of the President's Welfare-to-Work Initiative for Federal Grant Programs' was published in the Federal Register on May 16, 1997. This initiative was designated to facilitate and encourage grantees and their sub-recipients to hire welfare recipients and to provide additional needed training and/or mentoring as needed. The text of the notice is available electronically on the OMB home page at http://www.whitehouse.gov/omb.

3. Reporting Requirements

A successful applicant under this notice will submit: (1) Semi-annual progress reports; (2) an annual Financial Status Report; and (3) a final progress report and Financial Status Report in the format established by the OMH, in accordance with provisions of the general regulations which apply under “Monitoring and Reporting Program Performance,” 45 CFR part 74-51—74.52, with the exception of State and local governments to which 45 CFR part 92, subpart C reporting requirements apply.

Uniform Data Set: The Uniform Data Set (UDS) system is designed to assist in evaluating the effectiveness and impact of grant and cooperative agreement projects. All OMH grantees are required to report program information, using the Web-based UDS. Training will be provided to all new grantees (including cooperative agreement grantees) on the use of the UDS system, during the annual grantee meeting.

Grantees will be informed of the progress report due dates and means of submission. Instructions and report format will be provided prior to the required due date. The Annual Financial Status Report is due no later than 90 days after the close of each budget period. The final progress report and Financial Status Report are due 90 days after the end of the project period. Instructions and due dates will be provided prior to required submission.

Section VII. Agency Contacts

For questions on budget and business aspects of the application, contact the Office of Grants Management, OPHS, Tower Building, 1101 Wootton Parkway, Suite 550, Rockville, MD 20852, at (240) 453-8822.

For questions related to the TA/CD Program and the National Cooperative Agreement Program or assistance in preparing a grant proposal, contact Ms. Cynthia Amis, Director, Division of Program Operations, Office of Minority Health, Tower Building, Suite 600, 1101 Wootton Parkway, Rockville, MD 20852. Ms. Amis can be reached by telephone at (240) 453-8444.

For additional technical assistance, contact the OMH Regional Minority Health Consultant for your region listed in your grant application kit.

For health information, call the OMH Resource Center (OMHRC) at 1-800-444-6472.

Section VIII. Other Information

1. Healthy People 2010

The Public Health Service (PHS) is committed to achieving the health promotion and disease prevention objectives of Healthy People 2010, a PHS-led national activity announced in January 2000 to eliminate health disparities and improve years and quality of life. More information may be found on the Healthy People 2010 Web site: http://www.healthypeople.gov and copies of the document may be downloaded. Copies of the Health People 2010: Volumes I and II can be purchased by calling (202) 512-1800 (cost $70.00 for printed version; $20.00 for CD-ROM). Another reference is the Healthy People 2010 Final Review—2001.

For 1 free copy of the Healthy People 2010, contact: The National Center for Health Statistics, Division of Data Services, 3311 Toledo Road, Hyattsville, MD 20782, or by telephone at (301) 458-4636. Ask for HHS Publication No. (PHS) 99-1256. This document may also be downloaded from: http://www.healthypeople.gov.

2. ABC Approach

The Department supports the Administration's “A-B-C” approach to HIV prevention—Abstinence, Be faithful, and use Condoms—an approach used in other countries that has had an impact on reducing dramatically the percentage of individuals infected with HIV. The OMH encourages the use of this prevention strategy in its grant programs.

3. Definitions

For purposes of this announcement, the following definitions apply:

Community-Based Organizations—Private, nonprofit organizations that are representative of communities or significant segments of communities where the control and decisionmaking powers are located at the community level.

Community-Based, Minority-Serving Organization—A community-based organization that has a history of service to racial/ethnic minority populations. (See Definition of Minority Populations below.)

Cooperative Agreement—A financial assistance mechanism used in lieu of a grant when substantial federal programmatic involvement with the recipient during performance is anticipated by the awarding office.

Health Care Facility—A private nonprofit or public facility that has an established record for providing comprehensive health care services to a targeted, racial/ethnic minority community. A health care facility may be a hospital, outpatient medical facility, community health center, or a mental health center. Facilities providing only screening and referral activities are not included in this definition.

Minority Populations—American Indian or Alaska Native, Asian, Black or African American, Hispanic or Latino, and Native Hawaiian or Other Pacific Islander. (Revision to the Standards for the Classification of Federal Data on Race and Ethnicity, Federal Register, Vol. 62, No. 210, pg. 58782, October 30, 1997.)

National Organizations—Private, nonprofit organizations that have affiliate offices or chapters at the State and/or regional level in five or more geographically distinct communities and that have the capacity and experience to assist their affiliate offices and chapters.

National Minority-Serving Organization—A national organization whose mission focuses on health issues affecting minority communities nationwide and that serves a high concentration of the targeted population(s).

Nonprofit Organizations—Corporations or associations, no part of whose net earnings may lawfully inure to the benefit of any private shareholder or individual. Proof of nonprofit status must be submitted by private nonprofit organizations with the application or, if previously filed with PHS, the applicant must State where and when the proof was submitted. (See Section III, 3 Other, for acceptable evidence of nonprofit status.)

Sociocultural Barriers—Policies, practices, behaviors and beliefs that create obstacles to health care access and service delivery.

4. List of Currently Funded Umbrella Cooperative Agreements

American Indian Higher Education Consortium.

ASPIRA Association, Inc.

Asian and Pacific Islander American Health Forum, Inc.

Association of American Indian Physicians.

Association of Asian and Pacific Community Health Organizations.

Auxiliary to the National Medical Association.

Harvard Medical School Minority Faculty Development Program.

Hispanic Association of Colleges and Universities.

Interamerican College of Physicians and Surgeons.

Inter-University Program for Latino Research.

Latino Council on Alcohol and Tobacco.

Meharry Medical College.

Minority Access, Inc.

Minority Health Professions Foundation.

National Association for Equal Opportunity in Higher Education.

National Council of La Raza.

National Hispanic Religious Leaders Partnership.

National Hispanic Medical Association.

National Latino Children's Institute.

National Medical Association.

National Minority AIDS Council.

Quality Education for Minorities.

Summit Health Institute for Research and Education, Inc.

The Hispanic Serving Health Professions Schools.

The National Alliance for Hispanic Health.

Dated: May 27, 2005.
Garth N. Graham,
Deputy Assistant Secretary for Minority Health.

[FR Doc. 05-11650 Filed 6-10-05; 8:45 am]

BILLING CODE 4150-29-P